DEPARTMENT OF AGRICULTURE

National Agricultural Statistics Service

Submission for OMB Review; Comment Request

September 6, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical or other technological collection techniques or other forms of information technology.

Comments regarding this information collection received by October 11, 2016 will be considered. Written comments should be addressed to: Desk Officer for Agriculture, Office of Information and Regulatory Affairs, Office of Management and Budget (OMB), New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Nursery and Christmas Tree Production Surveys.

OMB Control Number: 0535-0244.

Summary of Collection: The National Agricultural Statistics Service (NASS) is charged with the responsibility of providing reliable, up-to-date information concerning the Nation's crop and livestock production, prices, and disposition, as well as environmental statistics. This includes estimates of production and value of key nursery products and production operations. Due to budget cuts the Nursery and Floriculture Chemical Use Survey was discontinued. The Nursery and Christmas Tree Production Survey that was conducted in seventeen States has been discontinued due to the reinstatement of the Census of Horticultural Specialties. Only the two State surveys which are conducted in Oregon will be renewed at this time. NASS will collect the information using surveys. The authority for these data collection activities is granted under U.S.C. Title 7, Section 2204.

Need and Use of the Information: Nursery and Christmas tree production data will continue to be collected by NASS and used by State governments, universities and other organizations under external project agreements. Christmas tree and nursery growers are a very important part of Oregon's agricultural production. According to the 2014 Census of Horticultural Specialties, Oregon producers of Christmas trees sold just under 35 percent of the U.S. total.

Description of Respondents: Farms; Business or other for-profit.

Number of Respondents: 1,400.

Frequency of Responses: Reporting: Annually.

Total Burden Hours: 689.

Charlene Parker,
Departmental Information Collection Clearance Officer.

[FR Doc. 2016-21696 Filed 9-8-16; 8:45 am]

BILLING CODE 3410-20-P